DEPARTMENT OF TRANSPORTATION

Federal Railroad Administration

Notice of Funding Opportunity for the Federal-State Partnership for State of Good Repair Program

AGENCY: Federal Railroad Administration (FRA), Department of Transportation (DOT).

ACTION: Notice of Funding Opportunity (NOFO or notice).

SUMMARY: This notice details the application requirements and procedures to obtain grant ¹ funding for eligible projects under the Federal-State Partnership for State of Good Repair Program (Partnership Program) made available by the Consolidated Appropriations Act, 2017, Public Law 115-31, Div. K, Tit. I (2017 Appropriations Act) and the Consolidated Appropriations Act, 2018, Div. L, Tit. I, Public Law 115-141 (2018 Appropriations Act; collectively the Appropriations Acts). The opportunity described in this notice is made available under Catalog of Federal Domestic Assistance (CFDA) number 20.326, “Federal-State Partnership for State of Good Repair.”

¹ The term “grant” is used throughout this document and is intended to reference funding awarded through a grant agreement, as well as funding awarded to recipients through a cooperative agreement.

DATES: Applications for funding under this solicitation are due no later than 5 p.m. EDT, March 18, 2019. Applications for funding or supplemental material in support of an application received after 5 p.m. EDT, on March 18, 2019 will not be considered for funding. Incomplete applications for funding will not be considered for funding. See Section D of this notice for additional information on the application process.

ADDRESSES: Applications must be submitted via www.Grants.gov. Only applicants who comply with all submission requirements described in this notice and submit applications through www.Grants.gov will be eligible for award. For any supporting application materials that an applicant is unable to submit via www.Grants.gov (such as oversized engineering drawings), an applicant may submit an original and two (2) copies to Amy Houser, Office of Program Delivery, Federal Railroad Administration, 1200 New Jersey Avenue SE, Room W36-412, Washington, DC 20590. However, due to delays caused by enhanced screening of mail delivered via the U.S. Postal Service, applicants are advised to use other means of conveyance (such as courier service) to assure timely receipt of materials before the application deadline.

FOR FURTHER INFORMATION CONTACT: For further information regarding project-related information in this notice, please contact Bryan Rodda, Office of Policy and Planning, Federal Railroad Administration, 1200 New Jersey Avenue SE, Room W38-203, Washington, DC 20590; email: Bryan.Rodda@dot.gov; phone: 202-493-0443. Grant application submission and processing questions should be addressed to Amy Houser, Office of Program Delivery, Federal Railroad Administration, 1200 New Jersey Avenue SE, Room W36-412, Washington, DC 20590; email: amy.houser@dot.gov; phone: 202-493-0303.

SUPPLEMENTARY INFORMATION:

Notice to applicants: FRA recommends that applicants read this notice in its entirety prior to preparing application materials. A list providing the definitions of key terms used throughout the NOFO are listed under the Program Description in Section A(2). These key terms are capitalized throughout the NOFO. There are several administrative and eligibility requirements described herein that applicants must comply with to submit an application. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

A. Program Description

1. Overview

The purpose of this notice is to solicit applications for grants for capital projects within the United States to repair, replace, or rehabilitate Qualified Railroad Assets to reduce the state of good repair backlog and improve Intercity Passenger Rail performance under the Partnership Program. The Partnership Program provides a Federal funding opportunity to leverage private, state, and local investments to significantly improve American rail infrastructure. The Partnership Program is authorized in Sections 11103 and 11302 of the Passenger Rail Reform and Investment Act of 2015 (Title XI of the Fixing America's Surface Transportation (FAST) Act, Public Law 114-94 (2015)) and is funded by the Appropriations Acts.

The Department recognizes the importance of applying life cycle asset management principles throughout America's infrastructure. It is important for rail infrastructure owners and operators, as well as those who may apply on their behalf, to plan for the maintenance and replacement of assets and the associated costs. In light of recent fatal passenger rail accidents, the Department particularly recognizes the opportunity to enhance safety in both track and equipment through this grant program.

The Partnership Program is intended to benefit both the Northeast Corridor (“NEC”) and the large number of publicly-owned or Amtrak-owned infrastructure, equipment, and facilities located in other areas of the country, including strengthening transportation options for rural American communities. Applicants should note that different requirements apply to NEC and non-NEC Partnership projects, with certain eligibility requirements applying only to proposed projects located on the Northeast Corridor, as defined in Section A(2)(f) in this notice. These NEC-specific requirements are described in Section C(3)(b). Further, the Partnership Program has different planning and cost-sharing requirements for Qualified Railroad Assets between proposed NEC and non-NEC projects. These differences are described in detail in Section D(2)(a)(v-vi).

2. Definitions of Key Terms

a. “Benefit-Cost Analysis” (or “Cost-Benefit Analysis”) is a systematic, data driven, and transparent analysis comparing monetized project benefits and costs, using a no-build baseline and properly discounted present values, including concise documentation of the assumptions and methodology used to produce the analysis, a description of the baseline, data sources used to project outcomes, and values of key input parameters, basis of modeling including spreadsheets, technical memos, etc., and presentation of the calculations in sufficient detail and transparency to allow the analysis to be reproduced and sensitivity of results evaluated by FRA. Please refer to the Benefit-Cost Analysis (BCA) Guidance for Discretionary Grant Programs prior to preparing a BCA at https://www.transportation.gov/office-policy/transportation-policy/benefit-cost-analysis-guidance. In addition, please also refer to the BCA FAQs on FRA's website for some rail-specific examples of how to apply the BCA Guidance for Discretionary Grant Programs to Partnership applications.

b. “Capital Project” is defined to mean a project primarily intended to replace, rehabilitate, or repair major infrastructure assets utilized for providing Intercity Passenger Rail service, including tunnels, bridges, and stations; or a project primarily intended to improve Intercity Passenger Rail performance, including reduced trip times, increased train frequencies, and higher operating speeds consistent with 49 U.S.C. 24911(a)(2).

c. “Commuter Rail Passenger Transportation” means short-haul rail passenger transportation in metropolitan and suburban areas usually having reduced fare, multiple ride, and commuter tickets and morning and evening peak period operations. See 49 U.S.C. 24102(3).

d. “Intercity Rail Passenger Transportation” is defined by 49 U.S.C. 24102(4) to mean rail passenger transportation, except Commuter Rail Passenger Transportation. In this notice, “Intercity Passenger Rail” is an equivalent term to “Intercity Rail Passenger Transportation.”

e. “Major Capital Project” means a Capital Project with a proposed total project cost of $300 million or more.

f. “Northeast Corridor” (“NEC”) means the main rail line between Boston, Massachusetts, and the District of Columbia; the branch rail lines connecting to Harrisburg, Pennsylvania, Springfield, Massachusetts, and Spuyten Duyvil, New York; and facilities and services used to operate and maintain these lines.

g. A “Qualified Railroad Asset” is defined by 49 U.S.C. 24911(a)(5) to mean infrastructure, equipment, or a facility that:

i. Is owned or controlled by an eligible Partnership Program applicant;

ii. is contained in the Northeast Corridor Capital Investment Plan prepared under 49 U.S.C. 24904, or an equivalent planning document; and for which the Northeast Corridor Commuter and Intercity Rail Cost Allocation Policy developed under 49 U.S.C. 24905, or a similar cost-allocation policy has been developed;

iii. was not in a State of Good Repair on December 4, 2015 (the date of enactment of the FAST Act).

See Section D(2)(a), Project Narrative, for further details about the Qualified Railroad Asset requirements and application submission instructions related to Qualified Railroad Assets.

h. “State of Good Repair” is defined by 49 U.S.C. 24102(12) to mean a condition in which physical assets, both individually and as a system, are performing at a level at least equal to that called for in their as-built or as-modified design specification during any period when the life cycle cost of maintaining the assets is lower than the cost of replacing them; and sustained through regular maintenance and replacement programs.

B. Federal Award Information

1. Available Award Amount

The total funding available for awards under this NOFO is $272,250,000 after $2,750,000 is set aside for FRA award and project management oversight as provided in the Appropriations Acts.

2. Award Size

While there are no predetermined minimum or maximum dollar thresholds for awards, FRA anticipates making multiple awards with the available funding. FRA encourages applicants to propose projects or components of projects that can be completed and implemented with the level of funding available. Projects may require more funding than is available. In these cases, applicants must identify and apply for specific project components that have operational independence and can be completed with the level of funding available. (See Section C(3)(c) for more information.)

Applicants proposing a Major Capital Project are encouraged to identify and describe phases or elements that could be candidates for subsequent Partnership Program funding, if such funding becomes available. Applications for a Major Capital Project that would seek future funds beyond fiscal year 2017 and 2018 funding made available in this notice should indicate anticipated annual Federal funding requests from this program for the expected duration of the project. FRA may issue Letters of Intent to Partnership Program grantees proposing Major Capital Projects under 49 U.S.C. 24911(g); such Letters of Intent would serve to announce the FRA's intention to obligate an amount from future available budget authority toward a grantee's future project phases or elements. A Letter of Intent is not an obligation of the Federal government and is subject to the availability of appropriations for Partnership Program grants and subject to Federal laws in force or enacted after the date of the Letter of Intent.

3. Award Type

FRA will make awards for projects selected under this notice through grant agreements and/or cooperative agreements. Grant agreements are used when FRA does not expect to have substantial Federal involvement in carrying out the funded activity. Cooperative agreements allow for substantial Federal involvement in carrying out the agreed upon investment, including technical assistance, review of interim work products, and increased program oversight under 2 CFR 200.24. The funding provided under these cooperative agreements will be made available to grantees on a reimbursable basis. Applicants must certify that their expenditures are allowable, allocable, reasonable, and necessary to the approved project before seeking reimbursement from FRA. Additionally, the grantee must expend matching funds at the required percentage alongside Federal funds throughout the life of the project.

4. Concurrent Applications

As DOT and FRA may be concurrently soliciting applications for transportation infrastructure projects for several financial assistance programs, applicants may submit applications requesting funding for a particular project to one or more of these programs. In the application for Partnership Program funding, applicants must indicate the other programs to which they submitted or plan to submit an application for funding the entire project or certain project components, as well as highlight new or revised information in the Partnership Program application that differs from the application(s) submitted for other financial assistance programs.

C. Eligibility Information

This section of the notice explains applicant eligibility, cost sharing and matching requirements, project eligibility, and project component operational independence. Applications that do not meet the requirements in this section will be ineligible for funding. Instructions for submitting eligibility information to FRA are detailed in Section D of this NOFO.

1. Eligible Applicants

The following entities are eligible applicants for all project types permitted under this notice:

(1) A State (including the District of Columbia);

(2) a group of States;

(3) an Interstate Compact;

(4) a public agency or publicly chartered authority established by one or more States; ²

² See Section D(2)(a)(iv) for supporting documentation required to demonstrate eligibility under this eligibility category.

(5) a political subdivision of a State;

(6) Amtrak, acting on its own behalf or under a cooperative agreement with one or more States; or

(7) any combination of the entities described in (1) through (6).

Selection preference will be provided for applications jointly submitted by multiple eligible applicants, as further discussed in Section E(1)(c). Joint applicants must identify an eligible applicant as the lead applicant. The lead applicant serves as the primary point of contact for the application, and if selected, as the recipient of the Partnership Program grant award. Eligible applicants may reference entities that are not eligible applicants (e.g., private sector firms) in an application as a project partner. However, FRA will provide selection preference to joint applications submitted by multiple eligible applicants only.

2. Cost Sharing or Matching

The Federal share of total costs for a project funded under the Partnership Program shall not exceed 80 percent, though FRA will provide selection preference to applications where the proposed Federal share of total project costs does not exceed 50 percent. The estimated total cost of a project must be based on the best available information, including engineering studies, studies of economic feasibility, environmental analyses, and information on the expected use of equipment and facilities. The minimum 20 percent non-Federal share may be comprised of public sector (e.g., state or local) or private sector funding. However, FRA will not consider any other Federal grants, nor any non-Federal funds already expended (or otherwise encumbered), that do not comply with 2 CFR 200.458 toward the matching requirement.

FRA is limiting the first 20 percent of the non-Federal match to cash contributions only. FRA will not accept “in-kind” contributions for the first 20 percent in matching funds. Eligible in-kind contributions may be accepted for any non-Federal matching beyond the first 20 percent. In-kind contributions including the donation of services, materials, and equipment, may be credited as a project cost, in a uniform manner consistent with 2 CFR 200.306.

FRA strongly encourages applicants to identify and include other state, local, public agency or authority, or private funding or financing to support the proposed project. Non-federal shares consisting of funding from multiple sources to demonstrate broad participation and cost sharing from affected stakeholders, will be given preference. If Amtrak is an applicant, whether acting on its own behalf or as part of a joint application, Amtrak's ticket and other non-Federal revenues generated from its business operations and other sources may be used as matching funds. Applicants must identify the source(s) of their matching and other funds, and must clearly and distinctly reflect these funds as part of the total project cost in the application budget.

FRA may not be able to award grants to all eligible applications, nor even to all applications that meet or exceed the stated evaluation criteria (see Section E, Application Review Information). Before submitting an application, applicants should carefully review the principles for cost sharing or matching in 2 CFR 200.306. FRA will approve pre-award costs consistent with 2 CFR 200.458. See Section D(6). Additionally, in preparing estimates of total project costs, applicants should refer to FRA's cost estimate guidance, “Capital Cost Estimating: Guidance for Project Sponsors,” which is available at: https://www.fra.dot.gov/Page/P0926.

3. Other

a. Project Eligibility

Eligible projects within the United States repair, replace, or rehabilitate Qualified Railroad Assets and improve Intercity Passenger Rail performance. Eligible Capital Projects include those that:

(1) Replace existing assets in-kind;

(2) Replace existing assets with assets that increase capacity or provide a higher level of service;

(3) Ensure that service can be maintained while existing assets are brought to a State of Good Repair; and

(4) Bring existing assets into a State of Good Repair.

Qualified Railroad Assets, as further defined in Section A(2), are owned or controlled by an eligible applicant and may include: infrastructure, including track, ballast, switches and interlockings, bridges, communication and signal systems, power systems, highway-rail grade crossings, and other railroad infrastructure and support systems used in intercity passenger rail service; stations, including station buildings, support systems, signage, and track and platform areas; equipment, including passenger cars, locomotives, and maintenance-of-way equipment; and facilities, including yards and terminal areas and maintenance shops.

Capital Projects, as further defined in Section A(2), may include final design; however, final design costs will only be eligible in conjunction with an award for project construction. Environmental and related clearances, including all work necessary for FRA to approve the project under the National Environmental Policy Act (NEPA) and related statutes and regulations are not eligible for funding under this notice. (See Section D(2)(a)(ix) for additional information.) Eligible projects with completed environmental and engineering documents, and, for projects located on the NEC, where Amtrak and the public authorities providing Commuter Rail Passenger Transportation on the NEC are in compliance with the cost allocation policy required at 49 U.S.C. 24905(c)(2), indicate strong project readiness. This allows FRA to maximize the funds available in this notice (see Section E(1)(c) for more information on Selection Criteria).

b. Additional Eligibility Requirements for Northeast Corridor (NEC) Projects

This sub-section provides additional eligibility requirements for projects where the proposed project location includes a portion of the NEC (NEC Projects). Applicants proposing non-NEC projects are not subject to the requirements in this sub-section, and may proceed to the next sub-section C(3)(c).

In the Partnership Program, the NEC is defined as the main rail line between Boston, Massachusetts and the District of Columbia, and the branch rail lines connecting to Harrisburg, Pennsylvania, Springfield, Massachusetts, and Spuyten Duyvil, New York.

Passenger railroad owners and operators on the NEC are subject to a cost allocation policy under 49 U.S.C. 24905(c)(2), and, via the NEC Commission, are required to annually adopt a five-year Northeast Corridor Capital Investment Plan for the NEC under 49 U.S.C. 24904(a). When selecting projects on the NEC, FRA will consider the appropriate sequence and phasing of projects as contained in the currently approved Northeast Corridor Capital Investment Plan.

NEC applicants must provide the status of compliance by Amtrak and the public authorities providing Commuter Rail Passenger Transportation at the eligible project location with the cost allocation policy required at 49 U.S.C. 24905(c)(2). FRA may not obligate a grant for a NEC Project unless each of the above service providers at the eligible project location are in compliance with that cost allocation policy. Such providers must maintain compliance with the cost allocation policy for the duration of the project.

c. Project Component Operational Independence

If an applicant requests funding for a project that is a component or set of components of a larger project, the project component(s) must be attainable with the award amount and comply with all eligibility requirements described in Section C.

In addition, the component(s) must be capable of independent analysis and decision making, as determined by FRA, under NEPA (i.e., have independent utility, connect logical termini, and not restrict the consideration of alternatives for other reasonably foreseeable rail projects.) Components must also generate independent utility and will be evaluated as such in the BCA.

D. Application and Submission Information

Required documents for the application are outlined in the following paragraphs. Applicants must complete and submit all components of the application. See Section D(2) for the application checklist. FRA welcomes the submission of additional relevant supporting documentation, such as planning, engineering and design documentation, and letters of support from partnering organizations that will not count against the Project Narrative page limit.

1. Address To Request Application Package

Applicants must submit all application materials in their entirety through www.Grants.gov no later than 5:00 p.m. EDT, on March 18, 2019. FRA reserves the right to modify this deadline. General information for submitting applications through Grants.gov can be found at: https://www.fra.dot.gov/Page/P0270.

For any supporting application materials that an applicant cannot submit via Grants.gov, such as oversized engineering drawings, an applicant may submit an original and two (2) copies to Amy Houser, Office of Program Delivery, Federal Railroad Administration, 1200 New Jersey Avenue SE, Room W36-412, Washington, DC 20590. However, due to delays caused by enhanced screening of mail delivered via the U.S. Postal Service, FRA advises applicants to use other means of conveyance (such as courier service) to assure timely receipt of materials before the application deadline. Additionally, if documents can be obtained online, explaining to FRA how to access files on a referenced website may also be sufficient.

2. Content and Form of Application Submission

FRA strongly advises applicants to read this section carefully. Applicants must submit all required information and components of the application package to be considered for funding. Additionally, applicants selected to receive funding must generally satisfy the grant readiness checklist requirements on https://www.fra.dot.gov/Page/P0268 as a precondition to FRA issuing a grant award, as well as the requirements in 49 U.S.C. 24405 explained in part at https://www.fra.dot.gov/page/P0185.

Required documents for an application package are outlined in the checklist below.

• Project Narrative (see D.2.a).

• Statement of Work (see D.2.b.i).

• Benefit-Cost Analysis (see D.2.b.ii).

• Environmental Compliance Documentation (see D.2.b.iii).

• SF424—Application for Federal Assistance.

• SF 424C—Budget Information for Construction, or, for an equipment procurement project without any construction costs, or SF 424A—Budget Information for Non-Construction.

• SF 424D—Assurances for Construction, or, for an equipment procurement project without any construction costs, or SF 424B—Assurances for Non-Construction.

• FRA's Additional Assurances and Certifications.

• SF LLL—Disclosure of Lobbying Activities.

a. Project Narrative

This section describes the minimum content required in the Project Narrative of grant applications. The Project Narrative must follow the basic outline below to address the program requirements and assist evaluators in locating relevant information.

I. Cover Page | See D.2.a.i.
II. Project Summary | See D.2.a.ii.
III. Project Funding | See D.2.a.iii.
IV. Applicant Eligibility Criteria | See D.2.a.iv.
V. Non-NEC Project Eligibility Criteria | See D.2.a.v.
VI. NEC Project Eligibility Criteria | See D.2.a.vi.
VII. Detailed Project Description | See D.2.a.vii.
VIII. Project Location | See D.2.a.viii.
IX. Grade Crossing Information, if applicable | See D.2.a.ix.
X. Evaluation and Selection Criteria | See D.2.a.x.
XI. Project Implementation and Management | See D.2.a.xi.
XII. Environmental Readiness | See D.2.a.xii.

These requirements must be satisfied through a narrative statement submitted by the applicant. The Project Narrative may not exceed 25 pages in length (excluding cover pages, table of contents, and supporting documentation). FRA will not review or consider for award applications with Project Narratives exceeding the 25-page limitation. If possible, applicants should submit supporting documents via website links rather than hard copies. If supporting documents are submitted, applicants must clearly identify the relevant portion of the supporting document with the page numbers of the cited information in the Project Narrative. The Project Narrative must adhere to the following outline.

i. Cover Page: Include a cover page that lists the following elements in either a table or formatted list: project title; location (e.g., city, State, Congressional district); lead applicant organization name; name of any co-applicants; amount of Federal funding requested; and proposed non-Federal match.

ii. Project Summary: Provide a brief 4-6 sentence summary of the proposed project and what the project will entail. Include challenges the proposed project aims to address, and summarize the intended outcomes and anticipated benefits that will result from the proposed project.

iii. Project Funding: Indicate the amount of Federal funding requested, the proposed non-Federal match, and total project cost. Identify the source(s) of matching and other funds, and clearly and distinctly reflect these funds as part of the total project cost in the application budget. Also, note if the requested Federal funding under this NOFO or other programs must be obligated or spent by a certain date due to dependencies or relationships with other Federal or non-Federal funding sources, related projects, law, or other factors. If applicable, provide the type and estimated value of any proposed in-kind contributions, as well as substantiate how the in-kind contributions meet the requirements in 2 CFR 200.306. For a Major Capital Project that would seek future funds beyond fiscal years 2017 and 2018 funding made available in this notice, provide the anticipated annual Federal funding requests from this grant program for the expected duration of the project. Finally, specify whether Federal funding for the project has previously been sought, and identify the Federal program and fiscal year of the funding request(s), as well as highlight new or revised information in the Partnership Program application that differs from the application(s) to other financial assistance programs.

iv. Applicant Eligibility Criteria: Explain how the applicant meets the applicant eligibility criteria outlined in Section C of this notice, including references to creation or enabling legislation for public agencies and publicly chartered authorities established by one or more States. Joint applications must include a description of the roles and responsibilities of each applicant, including budget and sub-recipient information showing how the applicants will share project costs, and must be signed by an authorized representative of each.

v. Non-NEC Project Eligibility Criteria: This sub-section provides project eligibility requirements for projects not on the NEC. (Applicants proposing NEC Projects may proceed to the next sub-section D(2)(a)(vi).) For non-NEC projects, explain how the project meets the project eligibility criteria in Section C of this notice. Describe how the project is a Qualified Railroad Asset under 49 U.S.C. 24911(a)(5), as follows:

(A) To demonstrate ownership or control by the applicant under 49 U.S.C. 24911(a)(5)(A), show either:

(1) The applicant owns or will, at project completion, have ownership of the infrastructure, equipment, or facility improved by the project; or

(2) The applicant controls or will, at project completion, have control over the infrastructure, equipment, or facility improved by the project by agreement with the owner(s). An agreement should specify the extent of the applicant's management and decision-making authority regarding the infrastructure, equipment, or facility improved by the project. Agreements involving railroad rights-of-way projects should also demonstrate the applicant has dispatching rights for the right-of-way and maintenance-of-way responsibilities.

(B) To demonstrate the planning requirement under 49 U.S.C. 24911(a)(5)(B), show that the project is included in the applicant's current State Rail Plan(s) and, as applicable, in the current Transportation Improvement Programs (TIP) or Statewide Transportation Improvement Programs (STIP) plan.

(C) To demonstrate the cost-sharing requirement under 49 U.S.C. 24911(a)(5)(B), the applicant must:

(1) Be an operator or contributing funding partner of Intercity Rail Passenger transportation who is subject to the Cost Methodology Policy adopted under Section 209 of the Passenger Rail Investment and Improvement Act of 2008 (PRIIA), Public Law 110-432, Oct. 16, 2008; or

(2) demonstrate the applicant(s) involvement in a similar cost-sharing agreement for the project as described in (1).

(D) To demonstrate the state of good repair requirement under 49 U.S.C. 24911(a)(5)(B):

(1) Describe the condition and performance of the infrastructure, equipment, or facility as of the time of enactment of the FAST Act (Dec. 4, 2015);

(2) indicate how the infrastructure, equipment, or facility's condition or performance falls short of the definition of “state of good repair” in Section A(2) (49 U.S.C. 24102(12) parts (A) and/or (B)); and

(3) indicate, if known, when the infrastructure, equipment, or facility last received comprehensive repair, replacement, or rehabilitation work similar to the applicant's proposed scope of work.

vi. NEC Project Eligibility Criteria: This sub-section provides project eligibility requirements for NEC Projects. (Applicants proposing non-NEC projects may proceed to the next sub-section D(2)(a)(vii).) For NEC applicants, explain how the NEC Project meets the project eligibility criteria in Section C(3)(b) of this notice including the requirements in 49 U.S.C. 24911(e). Describe how the NEC Project is a Qualified Railroad Asset under 49 U.S.C. 24911(a)(5), as follows:

(A) To demonstrate ownership or control by the applicant under 49 U.S.C. 24911(a)(5)(A), show either:

(1) The applicant owns or will, at project completion, have ownership of the infrastructure, equipment, or facility improved by the project; or

(2) The applicant controls or will, at project completion, have control over the infrastructure, equipment, or facility improved by the project by agreement with the owner(s). An agreement should specify the extent of the applicant's management and decision-making authority regarding the infrastructure, equipment, or facility improved by the project. Agreements involving railroad rights-of-way projects should also demonstrate the applicant has dispatching rights for the right-of-way and maintenance-of-way responsibilities.

(B) To demonstrate the planning requirement under 49 U.S.C. 24911(a)(5)(B), the NEC applicant must show that the infrastructure, equipment, or facility is included in the current approved Five-Year Capital Investment Plan prepared by the NEC Commission under 49 U.S.C. 24904(a).

(C) To demonstrate the cost-sharing requirement under 49 U.S.C. 24911(a)(5)(B), the infrastructure, equipment, or facility must be subject to the NEC Cost Allocation Policy developed under 49 U.S.C. 24905(c)(2).

(D) To demonstrate the state of good repair requirement under 49 U.S.C. 24911(a)(5)(C), the NEC applicant must:

(1) Describe the condition and performance of the infrastructure, equipment, or facility as of the time of enactment of the FAST Act (Dec. 4, 2015);

(2) indicate how the infrastructure, equipment, or facility's condition or performance falls short of the definition of “state of good repair” in Section A(2) (49 U.S.C. 24102(12) parts (A) and/or (B)); and

(3) indicate, if known, when the infrastructure, equipment, or facility last received comprehensive repair, replacement, or rehabilitation work similar to the applicant's proposed scope of work.

vii. Detailed Project Description: Include a detailed project description that expands upon the brief summary required above. This detailed description must provide, at a minimum: Additional background on the challenges the project aims to address; the expected users and beneficiaries of the project, including all railroad operators; the specific components and elements of the project; and any other information the applicant deems necessary to justify the proposed project. Applicants with Major Capital Projects are encouraged to identify and describe project phases or elements that would be candidates for subsequent Partnership Program funding if such funding becomes available. Include information to demonstrate the project is reasonably expected to begin construction in a timely manner. For all projects, applicants must provide information about proposed performance measures, as described in Section F(3)(c) and required in 2 CFR 200.301.

viii. Project Location: Include geospatial data for the project, as well as a map of the project's location. Include the Congressional districts in which the project will take place.

ix. Grade Crossing Information, if applicable: For any project that includes grade crossing components, cite specific DOT National Grade Crossing Inventory information, including the railroad that owns the infrastructure (or the crossing owner, if different from the railroad), the primary railroad operator, the DOT crossing inventory number, and the roadway at the crossing. Applicants can search for data to meet this requirement at the following link: http://safetydata.fra.dot.gov/OfficeofSafety/default.aspx.

x. Evaluation and Selection Criteria: Include a thorough discussion of how the proposed project meets all of the evaluation and selection criteria, as outlined in Section E of this notice. If an application does not sufficiently address the evaluation criteria and the selection criteria, it is unlikely to be a competitive application.

xi. Project Implementation and Management: Describe proposed project implementation and project management arrangements. Include descriptions of the expected arrangements for project contracting, contract oversight, change-order management, risk management, and conformance to Federal requirements for project progress reporting. Describe past experience in managing and overseeing similar projects. For Major Capital Projects, explain plans for a rigorous project management and oversight approach.

xii. Environmental Readiness: If the NEPA process is complete, indicate the date of completion, and provide a website link or other reference to the final Categorical Exclusion, Finding of No Significant Impact, Record of Decision, and any other NEPA documents prepared. If the NEPA process is not complete, the application should detail the type of NEPA review underway, if applicable, where the project is in the process, and indicate the anticipated date of completion of all milestones and of the final NEPA determination. If the last agency action with respect to NEPA documents occurred more than three years before the application date, the applicant should describe why the project has been delayed and why NEPA documents have not been updated and include a proposed approach for verifying and, if necessary, updating this material in accordance with applicable NEPA requirements. Additional information regarding FRA's environmental processes and requirements are located at https://www.fra.dot.gov/eLib/Details/L05286.

b. Additional Application Elements

Applicants must submit:

i. A Statement of Work (SOW) addressing the scope, schedule, and budget for the proposed project if it were selected for award. For Major Capital Projects, the SOW must include annual budget estimates and anticipated Federal funding for the expected duration of the project. The SOW must contain sufficient detail so FRA, and the applicant, can understand the expected outcomes of the proposed work to be performed and can monitor progress toward completing project tasks and deliverables during a prospective grant's period of performance. Applicants must use FRA's standard SOW template to be considered for award. The SOW template is located at https://www.fra.dot.gov/eLib/Details/L18661. When preparing the budget, the total cost of a project must be based on the best available information as indicated in cited references that include engineering studies, economic feasibility studies, environmental analyses, and information on the expected use of equipment or facilities.

ii. A Benefit-Cost Analysis consistent with 49 U.S.C. 24911(d)(2)(A) that demonstrates the merit of investing in the proposed project. The analysis should be systematic, data driven, and examine the trade-offs between reasonably expected project costs and benefits. Please refer to the Benefit-Cost Analysis Guidance for Discretionary Grant Programs prior to preparing a BCA at https://www.transportation.gov/office-policy/transportation-policy/benefit-cost-analysis-guidance. In addition, please also refer to the BCA FAQs on FRA's website (https://www.fra.dot.gov/grants) for some rail-specific examples of how to apply the Benefit-Cost Analysis Guidance for Discretionary Grant Programs to Partnership applications. The complexity and level of detail in the Benefit-Cost Analysis prepared for the Partnership Program should reflect the scope and scale of the proposed project.

iii. Environmental compliance documentation, if a website link is not cited in the Project Narrative.

iv. SF 424—Application for Federal Assistance.

v. SF 424C—Budget Information for Construction, or, for an equipment procurement project without any other construction elements, the SF 424A—Budget Information for Non-Construction.

vi. SF 424D—Assurances for Construction, or, for an equipment procurement project without any other construction elements, the SF 424B—Assurances for Non-Construction.

vii. FRA's Additional Assurances and Certifications.

viii. An SF LLL—Disclosure of Lobbying Activities.

Forms needed for the electronic application process are at www.Grants.gov.

c. Post-Selection Requirements

See subsection F(2) of this notice for post-selection requirements.

3. Unique Entity Identifier, System for Award Management (SAM), and Submission Instructions

To apply for funding through Grants.gov, applicants must be properly registered. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a discretionary grant award to an applicant until the applicant has complied with all applicable Data Universal Numbering System (DUNS) and SAM requirements. (Please note that if a Dun & Bradstreet DUNS number must be obtained or renewed, this may take a significant amount of time to complete.) Late applications that are the result of a failure to register or comply with Grants.gov applicant requirements in a timely manner will not be considered. If an applicant has not fully complied with the requirements by the submission deadline, the application will not be considered. To submit an application through Grants.gov, applicants must:

a. Obtain a DUNS Number

A DUNS number is required for Grants.gov registration. The Office of Management and Budget requires that all businesses and nonprofit applicants for Federal funds include a DUNS number in their applications for a new award or renewal of an existing award. A DUNS number is a unique nine-digit sequence recognized as the universal standard for the government in identifying and keeping track of entities receiving Federal funds. The identifier is used for tracking purposes and to validate address and point of contact information for Federal assistance applicants, recipients, and sub-recipients. The DUNS number will be used throughout the grant life cycle. Obtaining a DUNS number is a free, one-time activity. Applicants may obtain a DUNS number by calling 1-866-705-5711 or by applying online at http://www.dnb.com/us.

b. Register With the SAM

All applicants for Federal financial assistance must maintain current registrations in the SAM database. An applicant must be registered in SAM to successfully register in Grants.gov. The SAM database is the repository for standard information about Federal financial assistance applicants, recipients, and sub recipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award. Information about SAM registration procedures is available at www.sam.gov.

c. Create a Grants.gov Username and Password

Applicants must complete an Authorized Organization Representative (AOR) profile on www.Grants.gov and create a username and password. Applicants must use the organization's DUNS number to complete this step. Additional information about the registration process is available at: https://www.grants.gov/web/grants/applicants/organization-registration.html.

d. Acquire Authorization for Your AOR From the E-Business Point of Contact (E-Biz POC)

The E-Biz POC at the applicant's organization must respond to the registration email from Grants.gov and login at www.Grants.gov to authorize the applicant as the AOR. Please note there can be more than one AOR for an organization.

e. Submit an Application Addressing All Requirements Outlined in This NOFO

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html

Note: Please use generally accepted formats such as .pdf, .doc, .docx, .xls, .xlsx and .ppt, when uploading attachments. While applicants may embed picture files, such as .jpg, .gif, and .bmp, in document files, applicants should not submit attachments in these formats. Additionally, the following formats will not be accepted: .com, .bat, .exe, .vbs, .cfg, .dat, .db, .dbf, .dll, .ini, .log, .ora, .sys, and .zip.

4. Submission Dates and Times

Applicants must submit complete applications to www.Grants.gov no later than 5:00 p.m. EDT, March 18, 2019. FRA reviews www.Grants.gov information on dates/times of applications submitted to determine timeliness of submissions. Delayed registration is not an acceptable reason for late submission. In order to apply for funding under this announcement, all applicants are expected to be registered as an organization with Grants.gov. Applicants are strongly encouraged to apply early to ensure all materials are received before this deadline.

To ensure a fair competition of limited discretionary funds, the following conditions are not valid reasons to permit late submissions: (1) Failure to complete the Grants.gov registration process before the deadline; (2) failure to follow Grants.gov instructions on how to register and apply as posted on its website; (3) failure to follow all the instructions in this NOFO; and (4) technical issues experienced with the applicant's computer or information technology environment.

5. Intergovernmental Review

Executive Order 12372 requires applicants from State and local units of government or other organizations providing services within a State to submit a copy of the application to the State Single Point of Contact (SPOC), if one exists, and if this program has been selected for review by the State. Applicants must contact their State SPOC to determine if the program has been selected for State review.

6. Funding Restrictions

FRA will not fund any preliminary engineering, environmental work, or related clearances under this NOFO. FRA will only consider funding a project's final design activities if the applicant is also seeking funding for construction activities. FRA will only approve pre-award costs if such costs are incurred pursuant to the negotiation and in anticipation of the grant agreement and if such costs are necessary for efficient and timely performance of the scope of work consistent with 2 CFR 200.458. Under 2 CFR 200.458, grant recipients must seek written approval from FRA for pre-award activities to be eligible for reimbursement under the grant. Activities initiated prior to the execution of a grant or without FRA's written approval may not be eligible for reimbursement or included as a grantee's matching contribution.

FRA is prohibited under 49 U.S.C. 24405(f) ³ from providing Partnership Program grants for Commuter Rail Passenger Transportation. FRA's interpretation of this provision is informed by the language in 49 U.S.C. 24911, and specifically the definitions of capital project in § 24911(2)(a) and (b). FRA's primary intent in funding Partnership Program projects is to make reasonable investments in Capital Projects used in Intercity Rail Passenger Transportation. Such projects may be located on shared corridors where Commuter Rail Passenger Transportation also benefits from the project.

³ Under 49 U.S.C. 24911(i), Partnership grants are subject to the conditions in 49 U.S.C. 24405.

E. Application Review Information

1. Criteria

a. Eligibility and Completeness Review

FRA will first screen each application for applicant and project eligibility (eligibility requirements are outlined in Section C of this notice), completeness (application documentation and submission requirements are outlined in Section D of this notice), and the 20 percent minimum match in determining whether the application is eligible.

FRA will then consider the applicant's past performance in developing and delivering similar projects, and previous financial contributions.

b. Evaluation Criteria

FRA subject-matter experts will evaluate all eligible and complete applications using the evaluation criteria outlined in this section to determine technical merit and project benefits.

i. Technical Merit: FRA will evaluate application information for the degree to which—

(A) The tasks and subtasks outlined in the SOW are appropriate to achieve the expected outcomes of the proposed project.

(B) The technical qualifications and demonstrated experience of key personnel proposed to lead and perform the technical efforts, and the qualifications of the primary and supporting organizations to fully and successfully execute the proposed project within the proposed timeframe and budget.

(C) The proposed project's business plan considers potential private sector participation in the financing, construction, or operation of the proposed project.

(D) The applicant has, or will have the legal, financial, and technical capacity to carry out the project; satisfactory continuing control over the use of the equipment or facilities; and the capability and willingness to maintain the equipment or facilities.

(E) Eligible Projects have completed necessary pre-construction activities and indicate strong project readiness.

(F) For NEC Projects, the sequence and phasing of the proposed project is consistent with the Five-Year Capital Investment Plan prepared by the NEC Commission under 49 U.S.C. 24904(a).

(G) The project is consistent with planning guidance and documents set forth by the Secretary of Transportation or required by law.

ii. Project Benefits: FRA will evaluate the benefit-cost analysis of the proposed project for the anticipated private and public benefits relative to the costs of the proposed project including—

(A) Effects on system and service performance;

(B) Effects on safety, competitiveness, reliability, trip or transit time, and resilience;

(C) Efficiencies from improved integration with other modes; and

(D) Ability to meet existing or anticipated demand.

c. Selection Criteria

In addition to the eligibility and completeness review and the evaluation criteria outlined in this subsection, the FRA Administrator will apply the following selection criteria.

i. FRA will give preference to projects for which:

(A) Amtrak is not the sole applicant;

(B) Applications were submitted jointly by multiple applicants;

(C) Proposed Federal share of total project costs does not exceed 50 percent;

ii. After applying the above preferences, the FRA Administrator will take in account the following key Departmental priorities:

(A) Supporting economic vitality at the national and regional level;

(B) Leveraging Federal funding to attract other, non-Federal sources of infrastructure investment;

(C) Preparing for future operations and maintenance costs associated with their project's life-cycle, as demonstrated by a credible plan to maintain assets without having to rely on future Federal funding;

(D) Using innovative approaches to improve safety and expedite project delivery; and

(E) Holding grant recipients accountable for their performance and achieving specific, measurable outcomes identified by grant applicants.

(F) Proposed non-Federal share is comprised of more than one source, including private sources, demonstrating broad participation by affected stakeholders; and

(G) Applications indicate strong project readiness.

2. Review and Selection Process

FRA will conduct a three-part application review process, as follows:

a. Screen applications for completeness and eligibility;

b. Evaluate eligible applications (completed by technical panels applying the evaluation criteria); and

c. Select projects for funding (completed by the FRA Administrator applying the selection criteria).

F. Federal Award Administration Information

1. Federal Award Notice

Applications selected for funding will be announced in a press release and on FRA's website after the application review period. FRA will contact applicants with successful applications after announcement with information and instructions about the award process. This notification is not an authorization to begin proposed project activities. A formal grant agreement or cooperative agreement signed by both the grantee and the FRA, including an approved scope, schedule, and budget, is required before the award is considered complete. See an example of standard terms and conditions for FRA grant awards at https://www.fra.dot.gov/Elib/Document/14426.

2. Administrative and National Policy Requirements

Due to funding limitations, projects that are selected for funding may receive less than the amount originally requested. In those cases, applicants must be able to demonstrate the proposed projects are still viable and can be completed with the amount awarded.

Grantees and entities receiving funding from the grantee must comply with all applicable laws and regulations. A non-exclusive list of administrative and national policy requirements that grantees must follow includes: 2 CFR part 200; procurement standards; compliance with Federal civil rights laws and regulations; disadvantaged business enterprises; debarment and suspension; drug-free workplace; FRA's and OMB's Assurances and Certifications; Americans with Disabilities Act; safety oversight; NEPA; environmental justice; and the requirements in 49 U.S.C. 24405 including the Buy America requirements and the provision deeming operators rail carriers and employers for certain purposes.

3. Reporting

a. Reporting Matters Related to Integrity and Performance

Before making a Federal award with a total amount of Federal share greater than the simplified acquisition threshold of $250,000 (see OMB M-18-18, Implementing Statutory Changes to the Micro-Purchase and the Simplified Acquisition Thresholds for Financial Assistance, 2 CFR 200.88), FRA will review and consider any information about the applicant that is in the designated integrity and performance system accessible through SAM (currently the Federal Awardee Performance and Integrity Information System (FAPIIS)) (see 41 U.S.C. 2313).

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 2 CFR 200.205.

b. Progress Reporting on Grant Activity

Each applicant selected for a grant will be required to comply with all standard FRA reporting requirements, including quarterly progress reports, quarterly Federal financial reports, and interim and final performance reports, as well as all applicable auditing, monitoring and close out requirements. Reports may be submitted electronically.

The applicant must comply with all relevant requirements of 2 CFR part 200.

c. Performance Reporting

Each applicant selected for funding must collect information and report on the project's performance using measures mutually agreed upon by FRA and the grantee to assess progress in achieving strategic goals and objectives. Examples of some rail performance measures are listed in the table below. The applicable measure(s) will depend upon the type of project. Applicants requesting funding for rolling stock must integrate at least one equipment/rolling stock performance measure, consistent with the grantee's application materials and program goals.

Performance Measure
Rail measures | Unit measured | Temporal | Primary strategic goal | Secondary strategic goal | Description
Slow Order Miles | Miles | Annual | State of Good Repair | Safety | The number of miles per year within the project area that have temporary speed restrictions (“slow orders”) imposed due to track condition. This is an indicator of the overall condition of track. This measure can be used for projects to rehabilitate sections of a rail line since the rehabilitation should eliminate, or at least reduce the slow orders upon project completion.
Rail Track Grade Separation | Count | Annual | Economic Competitiveness | Safety | The number of annual automobile crossings that are eliminated at an at-grade crossing as a result of a new grade separation.
Passenger Counts | Count | Annual | Economic Competitiveness | State of Good Repair | Count of the annual passenger boardings and alightings at stations within the project area.
Travel Time | Time/Trip | Annual | Economic Competitiveness | Quality of Life | Point-to-point travel times between pre-determined station stops within the project area. This measure demonstrates how track improvements and other upgrades improve operations on a rail line. It also helps make sure the railroad is maintaining the line after project completion.
Track Miles | Miles | One Time | State of Good Repair | Economic Competitiveness | The number of track miles that exist within the project area. This measure can be beneficial for projects building sidings or sections of additional main line track on a railroad.

G. Federal Awarding Agency Contacts

For further information regarding this notice and the grants program, please contact Amy Houser, Office of Program Delivery, Federal Railroad Administration, 1200 New Jersey Avenue SE, Room W36-412, Washington, DC 20590; email: amy.houser@dot.gov.

Ronald L. Batory,
Administrator.

[FR Doc. 2018-25044 Filed 11-15-18; 8:45 am]

BILLING CODE 4910-06-P